DEPARTMENT OF COMMERCE

International Trade Administration

A-351-838, A-331-802, A-533-840, A-549-822, A-570-893, A-552-802

Certain Frozen Warmwater Shrimp from Brazil, Ecuador, India, Thailand, the People's Republic of China and the Socialist Republic of Vietnam; Amended Orders

AGENCY: Import Administration, International Trade Administration, Department of Commerce.

EFFECTIVE DATE: January 23, 2007.

FOR FURTHER INFORMATION CONTACT: Kate Johnson at (202) 482-4929 (Brazil), David Goldberger at (202) 482-4136 (Ecuador), Elizabeth Eastwood at (202) 482-3874 (India), Irina Itkin at (202) 482-0656 (Thailand), Christopher Riker at (202) 482-3441 (People's Republic of China), and Alex Villanueva at (202) 482-3208 (Socialist Republic of Vietnam); AD/CVD Operations, Import Administration, International Trade Administration, U.S. Department of Commerce, 14th Street and Constitution Avenue, N.W., Washington, D.C. 20230.

Background

On February 1, 2005, the Department of Commerce (the Department) published in the Federal Register its notices on amended final determinations of sales at less than fair value and antidumping duty orders of certain frozen warmwater shrimp from Brazil, Ecuador, India, Thailand, the People's Republic of China and the Socialist Republic of Vietnam. See Notice of Amended Final Determination of Sales at Less Than Fair Value and Antidumping Duty Order: Certain Frozen Warmwater Shrimp from Brazil, 70 FR 5143 (Feb. 1, 2005); Notice of Amended Final Determination of Sales at Less Than Fair Value and Antidumping Duty Order: Certain Frozen Warmwater Shrimp from Ecuador, 70 FR 5156 (Feb. 1, 2005); Notice of Amended Final Determination of Sales at Less Than Fair Value and Antidumping Duty Order: Certain Frozen Warmwater Shrimp from India, 70 FR 5147 (Feb. 1, 2005); Notice of Amended Final Determination of Sales at Less Than Fair Value and Antidumping Duty Order: Certain Frozen Warmwater Shrimp from Thailand, 70 FR 5145 (Feb. 1, 2005); Notice of Amended Final Determination of Sales at Less Than Fair Value and Antidumping Duty Order: Certain Frozen Warmwater Shrimp From the People's Republic of China, 70 FR 5149 (Feb. 1, 2005); and Notice of Amended Final Determination of Sales at Less Than Fair Value and Antidumping Duty Order: Certain Frozen Warmwater Shrimp From the Socialist Republic of Vietnam, 70 FR 5152 (Feb. 1, 2005) (Amended Shrimp Finals/Orders). In the Amended Shrimp Finals/Orders, the Department noted that the scope of the antidumping duty orders had been amended to exclude canned warmwater shrimp and prawns to reflect the International Trade Commission's finding that a domestic industry in the United States is not materially injured or threatened with material injury by reason of imports of canned warmwater shrimp and prawns from the countries in question.

Subsequent to the issuance of the shrimp orders, we noticed that the first sentence of the first paragraph of the scope language of each order might suggest that the warmwater shrimp subject to the order includes warmwater shrimp in non-frozen form. Therefore, we are amending the scope language of the orders by moving the word “frozen” to be before “warmwater shrimp and prawns” in the first sentence of the first paragraph of the scope of each order to clarify that only frozen warmwater shrimp and prawns are subject to the order. As a result, the first paragraph of the scope of each order reads as follows:

The scope of this order includes certain frozen warmwater shrimp and prawns, whether wild-caught (ocean harvested) or farm-raised (produced by aquaculture), head-on or head-off, shell-on or peeled, tail-on or tail-off, deveined or not deveined, cooked or raw, or otherwise processed in frozen form.

We are thus amending the antidumping duty orders of certain frozen warmwater shrimp from Brazil, Ecuador, India, Thailand, the People's Republic of China and the Socialist Republic of Vietnam, as noted above.

These amended orders are issued and published in accordance with section 736(a) of the Tariff Act of 1930, as amended.

Dated: January 16, 2007.
Stephen J. Claeys,
Deputy Assistant Secretary for Import Administration.

[FR Doc. E7-931 Filed 1-22-03; 8:45 am]

BILLING CODE 3510-DS-S